DEPARTMENT OF DEFENSE

Office of the Secretary

Spring 2000 Conference Meeting of the Defense Advisory Committee on Women in the Services (DACOWITS)

AGENCY: Department of Defense, Advisory Committee on Women in the Services.

ACTION: Notice.

SUMMARY: Pursuant to Section 10(a), Public Law 92-463, as amended, notice is hereby given of a forthcoming semi-annual conference of the Defense Advisory Committee on Women in the Services (DACOWITS). The purpose of the Spring 2000 DACOWITS Conference is to assist the Secretary of Defense on matters relating to women in the Services. Conference sessions will be held daily and will be open to the public, unless otherwise noted below.

DATES: April 26-30, 2000.

ADDRESSES: Washington Dulles Airport Hotel, 13869 Park Center Road, Herndon, VA 20171; telephone: (703) 478-2900.

FOR FURTHER INFORMATION CONTACT: Major Susan E. Kolb, ARNG, or Sergeant First Class Verena Sander, USA, DACOWITS and Military Women Matters, OASD (Force Management Policy), 4000 Defense Pentagon, Room 3D769, Washington, DC 20301-4000; telephone (703) 697-2122 or E-Mail: SANDERV@PR.OSD.MIL.

SUPPLEMENTARY INFORMATION: The following rules will govern the participation by members of the public at the conference:

(1) Members of the public will not be permitted to attend the DoD Luncheon, DoD Reception and Dinner and Conference Field Trip.

(2) The Opening Session, General Session, all Subcommittee Sessions, Tri-Committee Review, and the Voting Session will be open to the public.

(3) Interested persons may submit a written statement for consideration by the Committee and/or make an oral presentation of such during the conference.

(4) Persons desiring to make an oral presentation or to submit a written statement to the Committee must notify the point of contact listed above no later than April 10, 2000.

(5) Length and number of oral presentations to be made will depend on the number of requests received from members of the public.

(6) Oral presentations by members of the public will be permitted only on Sunday, April 30, 2000, before the full Committee.

(7) Each person desiring to make an oral presentation must provide the DACOWITS office with one (1) copy of the presentation by April 10, 2000 and bring 175 copies of any material that is intended for distribution at the conference.

(8) Persons submitting a written statement for inclusion in the minutes of the conference must submit to the DACOWITS staff one (1) copy of the statement by the close of the conference on Sunday, April 30, 2000.

(9) Other new items from members of the public may be presented in writing to any DACOWITS member for transmittal to the DACOWITS Chair or Military Director, DACOWITS and Military Women Matters, for consideration.

(10) Members of the public will not be permitted to enter oral discussions conducted by the Committee members at any of the sessions; however, they will be permitted to reply to questions directed to them by the members of the Committee.

(11) After the official participants have asked questions and/or made comment to the scheduled speakers, members of the public will be permitted to ask questions if recognized by the Chair and if time allows.

(12) Non-social agenda events that are not open to the public are for administrative matters unrelated to substantive advice provided to the Department of Defense and do not involve DACOWITS deliberations or decision-making issues before the Committee. Conference sessions will be conducted according to the following agenda:

Tuesday, April 25, 2000

New Member Orientation (DACOWITS Members Only).

Wednesday, April 26, 2000

Conference Registration, New Member Orientation (DACOWITS Members Only), Military Representatives Meeting (Senior Military Representatives Only), Executive Committee Rules and Procedures Meeting (DACOWITS Members Only).

Thursday, April 27, 2000

Opening Session and General Session (Open to public), DoD Luncheon (Invited Guests Only), Subcommittee Sessions (Open to Public).

Friday, April 28, 2000

Subcommittee Sessions (Open to Public), Luncheon (Paid Registered Conference Participants Only), Subcommittee Session (Open to Public), Executive Committee Rules and Procedures Meeting (DACOWITS Members Only), DoD Reception and Dinner (Invited Guests Only).

Saturday, April 29, 2000

Tri-Committee Session (Open to Public), Subcommittee Sessions (Open to Public), Field Trip (DACOWITS Members and Senior Military Representatives Only), Executive Committee Rules and Procedures Meeting (DACOWITS Members Only).

Sunday, April 30, 2000

Voting Session (Open to Public).

Dated: March 9, 2000.
L.M. Bynum,
Alternate OSD Federal Register, Liaison Officer, Department of Defense.

[FR Doc. 00-6292 Filed 3-14-00; 8:45 am]

BILLING CODE 5001-10-M